DEPARTMENT OF JUSTICE

Notice of Lodging of Proposed Consent Decree Under the Comprehensive Environmental Response, Compensation, and Liability Act (CERCLA)

On January 16, 2014, the Department of Justice lodged a proposed consent decree with the United States District Court for the Northern District of California, San Jose Division, in the lawsuit entitled United States v. CTS Printex, Inc. and ADN Corporation, Civil Action No. 5:14-cv-00256.

The United States filed this lawsuit under the Comprehensive Environmental Response, Compensation and Liability Act (CERCLA). The United States' complaint names CTS Printex, Inc. and ADN Corporation as defendants. The complaint requests recovery of costs that the United States incurred responding to releases of hazardous substances at the CTS Printex Superfund Site in the city of Mountain View, Santa Clara County, California. The complaint also seeks injunctive relief. Under the proposed consent decree, the defendants agree to pay $850,000 of the United States' response costs, and to perform the remedial action that EPA selected for the site. In return, the United States agrees not to sue the defendants under sections 106 and 107 of CERCLA.

The publication of this notice opens a period for public comment on the consent decree. Comments should be addressed to the Assistant Attorney General, Environment and Natural Resources Division, and should refer to United States v. CTS Printex, Inc. and ADN Corporation D.J. Ref. No. 90-11-2-849/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $53.75 (25 cents per page reproduction cost) payable to the United States Treasury. For a paper copy without the exhibits and signature pages, the cost is $17.25.

Henry S. Friedman,
Assistant Section Chief, Environmental Enforcement Section, Environment and Natural Resources Division.

[FR Doc. 2014-01245 Filed 1-22-14; 8:45 am]

BILLING CODE 4410-15-P